DEPARTMENT OF STATE

[Public Notice 3348]

Bureau of Economic and Business Affairs; Advisory Committee on International Communications and Information Policy Notice of Committee Renewal

Renewal of Advisory Committee

The Department of State has renewed the Charter of the Advisory Committee on International Communications and Information Policy. This advisory committee provides a formal channel for regular consultation and coordination on major economic, social and legal issues and problems in international communications and information policy, especially as these issues and problems involve users of information and communication services, providers of such services, technology research and development, foreign industrial and regulatory policy, the activities of international organizations with regard to communications and information, and developing country interests.

The duties of the Advisory Committee shall include performance of the following functions:

(a) To provide information and advice on both public and private aspects of current foreign affairs issues in these areas;

(b) To provide advice in the formulation of United States communications and information policy, positions and proposals for multilateral and bilateral consultations, and negotiations on communications and information policy issues; and

(c) In furtherance of the objectives noted in paragraphs (a) and (b), through subcommittees and working groups, to provide information and advice, and to carry out special studies and research in particular areas of information and communications policy as may be deemed advisable.

The objective of the Committee is to bring to the Department a source of expertise, knowledge and insight, not available within the Department or elsewhere in the Government, on these issues and problems.

For further information, please contact: Timothy C. Finton, EB/CIP, U.S. Department of State, <fintontc@state.gov>.

Dated: August 11, 2000.
Timothy C. Finton,
Executive Secretary, Advisory Committee on International Communications and Information Policy, Department of State.

[FR Doc. 00-20979 Filed 8-16-00; 8:45 am]

BILLING CODE 4710-45-P